DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Lee (FEMA Docket No.: B-2148) | Unincorporated areas of Lee County (21-04-2326P) | The Honorable Bill English, Chairman, Lee County Commission, P.O. Box 666, Opelika, AL 36803 | Lee County Building Inspection Department, 100 Orr Avenue, Opelika, AL 36804 | Sep. 30, 2021 | 010250
Shelby (FEMA Docket No.: B-2164) | City of Pelham (20-04-2379P) | The Honorable Gary W. Waters, Mayor, City of Pelham, P.O. Box 1419, Pelham, AL 35124 | City Hall, 3162 Pelham Parkway, Pelham, AL 35124 | Oct. 11, 2021 | 010193
St. Clair (FEMA Docket No.: B-2148) | Unincorporated areas of St. Clair County (21-04-2404P) | The Honorable Paul Manning, Chairman, St. Clair County Commission, 165 5th Avenue, Suite 100, Ashville, AL 35953 | St. Clair County Flood Management Department, 165 5th Avenue, Suite 100, Ashville, AL 35953 | Oct. 1, 2021 | 010290
Colorado:
Denver (FEMA Docket No.: B-2148) | City and County of Denver (20-08-0896P) | The Honorable Michael B. Hancock, Mayor, City and County of Denver, 1437 North Bannock Street, Room 350, Denver, CO 80202 | Department of Public Works, 201 West Colfax Avenue, Denver, CO 80202 | Sep. 3, 2021 | 080046
Eagle (FEMA Docket No.: B-2143) | Unincorporated areas of Eagle County (20-08-0688P) | Mr. Jeff Schroll, Eagle County Manager, P.O. Box 850, Eagle, CO 81631 | Eagle County Engineering Department, 500 Broadway Street, Eagle, CO 81631 | Sep. 17, 2021 | 080051
La Plata (FEMA Docket No.: B-2148) | City of Durango (20-08-0734P) | Mr. Jose Madrigal, City of Durango Manager, 949 East 2nd Avenue, Durango, CO 81301 | Planning Department, 1235 Camino Del Rio, Durango, CO 81301 | Sep. 7, 2021 | 080099
Larimer (FEMA Docket No.: B-2148) | Unincorporated areas of Larimer County (20-08-0812P) | The Honorable John Kefalas, Chairman, Larimer County Board of Commissioners, 200 West Oak Street, Suite 2200, Fort Collins, CO 80521 | Larimer County Engineering Department, 200 West Oak Street, Suite 3000, Fort Collins, CO 80521 | Sep. 7, 2021 | 080101
Florida:
Alachua (FEMA Docket No.: B-2143) | Unincorporated areas of Alachua County (20-04-4498P) | Ms. Michele L. Lieberman, Alachua County Manager, 12 Southeast 1st Street, Gainesville, FL 32601 | Alachua County Public Works Department, 5620 Northwest 120th Lane, Gainesville, FL 32653 | Sep. 17, 2021 | 120001
Collier (FEMA Docket No.: B-2148) | City of Naples (21-04-0422P) | The Honorable Teresa Heitmann, Mayor, City of Naples, 735 8th Street South, Naples, FL 34102 | Building Department, 295 Riverside Circle, Naples, FL 34102 | Sep. 7, 2021 | 125130
Hillsborough (FEMA Docket No.: B-2143) | City of Plant City (21-04-0113P) | The Honorable Rick Lott, Mayor, City of Plant City, 302 West Reynolds Street, Plant City, FL 33563 | City Hall, 302 West Reynolds Street, Plant City, FL 33563 | Sep. 13, 2021 | 120113
Lee (FEMA Docket No.: B-2141) | City of Bonita Springs (21-04-0614P) | The Honorable Rick Steinmeyer, Mayor, City of Bonita Springs, 9101 Bonita Beach Road, Bonita Springs, FL 34135 | Community Development Department, 9220 Bonita Beach Road, Suite 111, Bonita Springs, FL 34135 | Sep. 13, 2021 | 120680
Lee (FEMA Docket No.: B-2148) | Unincorporated areas of Lee County (21-04-2302P) | Mr. Roger Desjarlais, Lee County Manager, 2115 2nd Street, Fort Myers, FL 33901 | Lee County Building Department, 1500 Monroe Street, Fort Myers, FL 33901 | Sep. 16, 2021 | 125124
Monroe (FEMA Docket No.: B-2143) | Unincorporated areas of Monroe County (21-04-1248P) | The Honorable Michelle Coldiron, Mayor, Monroe County Board of Commissioners, 25 Ships Way, Big Pine Key, FL 33043 | Monroe County Building Department, 2798 Overseas Highway, Suite 300, Marathon, FL 33050 | Sep. 13, 2021 | 125129
Palm Beach (FEMA Docket No.: B-2141) | Unincorporated areas of Palm Beach County (20-04-5100P) | The Honorable Verdenia C. Baker, Palm Beach County Administrator, 301 North Olive Avenue, Suite 1201, West Palm Beach, FL 33401 | Palm Beach County Building Division, 2300 North Jog Road, West Palm Beach, FL 33411 | Sep. 9, 2021 | 120192
Palm Beach (FEMA Docket No.: B-2143) | Village of Royal Palm Beach (20-04-0685P) | The Honorable Fred Pinto, Mayor, Village of Royal Palm Beach, 1050 Royal Palm Beach Boulevard, Royal Palm Beach, FL 33411 | Village Hall, 1050 Royal Palm Beach Boulevard, Royal Palm Beach, FL 33411 | Sep. 17, 2021 | 120225
Sarasota (FEMA Docket No.: B-2141) | Unincorporated areas of Sarasota County (21-04-0474P) | The Honorable Alan Maio, Chairman, Sarasota County Board of Commissioners, 1660 Ringling Boulevard, Sarasota, FL 34236 | Sarasota County Planning and Development Services Department, 1001 Sarasota Center Boulevard, Sarasota, FL 34240 | Sep. 1, 2021 | 125144
Georgia:
Cobb (FEMA Docket No.: B-2143) | City of Smyrna (20-04-5692P) | The Honorable Derek Norton, Mayor, City of Smyrna, 2800 King Street, Smyrna, GA 30080 | Public Works Department, 2190 Atlanta Road, Smyrna, GA 30080 | Sep. 7, 2021 | 130057
Cobb (FEMA Docket No.: B-2143) | Unincorporated areas of Cobb County (20-04-5692P) | The Honorable Lisa Cupid, Chair, Cobb County Board of Commissioners, 100 Cherokee Street, Suite 300, Marietta, GA 30090 | Cobb County Stormwater Management Division, 660 South Cobb Drive, Marietta, GA 30060 | Sep. 7, 2021 | 130052
DeKalb (FEMA Docket No.: B-2141) | Unincorporated areas of DeKalb County (21-04-0617P) | The Honorable Michael L. Thurmond, Chief Executive Officer, DeKalb County, 1300 Commerce Drive, 6th Floor, Decatur, GA 30030 | DeKalb County Roads and Drainage Department, 727 Camp Road, Decatur, GA 30032 | Sep. 10, 2021 | 130065
Fulton (FEMA Docket No.: B-2143) | City of Atlanta (20-04-5692P) | The Honorable Keisha Lance Bottoms, Mayor, City of Atlanta, 55 Trinity Avenue, Suite 2500, Atlanta, GA 30303 | City Hall, 72 Marietta Street Northwest, Atlanta, GA 30303 | Sep. 7, 2021 | 135157
Kentucky: Carroll (FEMA Docket No.: B-2148) | Unincorporated areas of Carroll County (21-04-1755P) | The Honorable Harold Tomlinson, Carroll County Executive, 440 Main Street, Carrollton, KY 41008 | Carroll County Solid Waste Department, 829 Polk Street, Carrollton, KY 41008 | Sep. 3, 2021 | 210045
Louisiana: Lafayette (FEMA Docket No.: B-2159) | City of Broussard (21-06-1666P) | The Honorable Ray Bourque, Mayor, City of Broussard, 310 East Main Street, Broussard, LA 70518 | City Hall, 310 East Main Street, Broussard, LA 70518 | Sep. 20, 2021 | 220102
Massachusetts: Essex (FEMA Docket No.: B-2148) | Town of Marblehead (21-01-0574P) | Mr. Jason Silva, Town of Marblehead Administrator, 188 Washington Street, Marblehead, MA 01945 | Engineering Department, 7 Widger Road, Marblehead, MA 01945 | Sep. 17, 2021 | 250091
South Carolina:
Charleston (FEMA Docket No.: B-2141) | Town of Sullivan's Island (21-04-2046P) | The Honorable Patrick M. O'Neil, Mayor, Town of Sullivan's Island, 2056 Middle Street, Sullivan's Island, SC 29482 | Building Department, 2056 Middle Street, Sullivan's Island, SC 29482 | Sep. 13, 2021 | 455418
Richland (FEMA Docket No.: B-2141) | City of Columbia (20-04-4501P) | The Honorable Stephen K. Benjamin, Mayor, City of Columbia, 1737 Main Street, Columbia, SC 29201 | Water Department, 1136 Washington Street, Columbia, SC 29201 | Sep. 20, 2021 | 450172
Richland (FEMA Docket No.: B-2141) | Unincorporated areas of Richland County (20-04-4501P) | The Honorable Paul Livingston, Chairman, Richland County Council, 2308 Park Street, Columbia, SC 29201 | Richland County Floodplain Management Department, 2020 Hampton Street, Columbia, SC 29204 | Sep. 20, 2021 | 450170
Texas:
Denton (FEMA Docket No.: B-2141) | Unincorporated areas of Denton County (21-06-0565P) | The Honorable Andy Eads, Denton County Judge, 110 West Hickory Street, 2nd Floor, Denton, TX 76201 | Denton County Public Works, Engineering Department, 1505 East McKinney Street, Suite 175, Denton, TX 76209 | Sep. 13, 2021 | 480774
Williamson (FEMA Docket No.: B-2141) | Unincorporated areas of Williamson County (21-06-0017P) | The Honorable Bill Gravell, Jr., Williamson County Judge, 710 South Main Street, Suite 101, Georgetown, TX 78626 | Williamson County Engineering Department, 3151 Southeast Inner Loop, Georgetown, TX 78626 | Sep. 16, 2021 | 481079

[FR Doc. 2021-23241 Filed 10-25-21; 8:45 am]

BILLING CODE 9110-12-P